DEPARTMENT OF COMMERCE

National Oceanic and Atmospheric Administration

RIN 0648-XA222

Gulf Spill Restoration Planning; Public Scoping Meetings for the Programmatic Environmental Impact Statement for the Deepwater Horizon Oil Spill; Correction

AGENCY: National Marine Fisheries Service (NMFS), National Oceanic and Atmospheric Administration (NOAA), U.S. Department of Commerce.

ACTION: Notice of public scoping meetings; correction.

SUMMARY: In a March 2, 2011, Federal Register notice, the National Oceanic and Atmospheric Administration (NOAA), National Marine Fisheries Service (NMFS) announced the public scoping meeting dates, times, and locations for the Programmatic Environmental Impact Statement for the Deepwater Horizon Oil Spill. There is a date change for the meeting in Washington, DC.

DATES: The public scoping meeting in Washington, DC will begin at 7:30 p.m. (local time) and doors will open at 6:30 p.m.

FOR FURTHER INFORMATION CONTACT:

NOAA—Brian Hostetter at (888) 547-0174 or by e-mail at gulfspillcomments@noaa.gov;

DOI—Robin Renn by e-mail at Robin_Renn@fws.gov;

AL— Will Gunter by e-mail at William.Gunter@dcnr.alabama.gov;

FL—Lee Edminston or Gil McRae by e-mail at Lee.Edmiston@dep.state.fl.us or Gil.McRae@myfwc.com;

LA—Karolien Debusschere by e-mail at karolien.debusschere@la.gov;

MS—Richard Harrell by e-mail at Richard_Harrell@deq.state.ms.us;

TX—Don Pitts by e-mail at Don.Pitts@tpwd.state.tx.us.

To be added to the Oil Spill PEIS mailing list, please visit: http://www.gulfspillrestoration.noaa.gov.

Correction

The information in Federal Register notice 2011-4540, on page 11427, in the first column, under the heading Scoping Meetings, for meeting scheduled in 11. Washington, DC is corrected to read as follows:

11. Wednesday, April 6, 2011: U.S. Department of Commerce, Herbert Hoover Bldg. Auditorium, 1401 Constitution Ave., NW., Washington, DC.

Dated: March 9, 2011.
Patricia A. Montanio,
Director, Office of Habitat Conservation, National Marine Fisheries Service.

[FR Doc. 2011-5996 Filed 3-14-11; 8:45 am]

BILLING CODE 3510-22-P